DEPARTMENT OF ENERGY

Federal Energy Regulatory Commission

[Docket No. EL18-146-000]

Notice of Petition for Declaratory Order; KCP&L Greater Missouri Operations Company

Take notice that on May 11, 2018, pursuant to Rule 207 of the Federal Energy Regulatory Commission's (Commission) Rules of Practice and Procedure, 18 CFR 385.207 (2017), KCP&L Greater Missouri Operations Company (Petitioner), filed a petition for a declaratory order requesting that the Commission find that payment of dividends from FERC Account 211—Miscellaneous Paid in Capital, until such time as Petitioner has retained earnings to pay the full dividend amount to its sole shareholder, Great Plains Energy (or its successor), complies with section 305(a) of the Federal Power Act,¹ as more fully explained in the petition.

¹ 16 U.S.C. 825d.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern time on June 11, 2018.

Dated: May 14, 2018.
Kimberly D. Bose,
Secretary.

[FR Doc. 2018-10752 Filed 5-18-18; 8:45 am]

BILLING CODE 6717-01-P